DEPARTMENT OF DEFENSE

Office of the Secretary

Open Meeting on Department of Defense Directive 1344.7, “Personal Commercial Solicitation on DoD Installations”

AGENCY: Office of the Under Secretary of Defense (Personnel and Readiness), DoD.

ACTION: Notice of opportunity to comment and public meeting.

SUMMARY: The Office of the Under Secretary of Defense for Personnel and Readiness (OUSD(P&R)) is announcing the opportunity to provide comment on the existing Department of Defense Directive (DoDD) 1344.7, “Personal Commercial Solicitation on DoD Installations,” dated February 13, 1986. The Department will only consider the comments submitted in writing and provided by those in attendance as it completes its review of the Directive.

DATES: August 22nd, 9 a.m.-12 p.m.

ADDRESSES: The meeting will be held at Drew Model School in the Cafeteria/Multipurpose Room, located at 3500 S. 23rd St, Arlington, VA 22206.

FOR FURTHER INFORMATION CONTACT: Colonel Michael A. Pachuta at (703) 602-4994 or Mr. James M. Ellis at (703) 602-5009.

SUPPLEMENTARY INFORMATION: The Department of Defense is in the process of rewriting the existing policy governing “Personal Commercial Solicitation on DoD Installations,” and is soliciting comments addressing any potential changes OSD should make to DoDD 1344.7. A copy of the existing Directive may be found at the following Web site address: http://www.dtic.mil/whs/directives/corres/pdf/d13447wch2_021386/d13447p.pdgf. We welcome your comments on any aspect of this document. If you recommend adding or deleting any provisions, please explain why succinctly. All oral comments at the public meeting will be limited to 5 minutes per individual/organization represented. Accompany any oral comments with a written summary to be submitted to OUSD(P&R) at the beginning of the meeting.

All written comments must be submitted no later than August 22, 2003 to be considered, and must include full name, address and telephone number of the sender or a knowledgeable point of contact. If possible, please send an electronic version of the comments either on a 3½ inch DOS format floppy disk, or by e-mail to the addresses listed below, in Adobe Acrobat Portable Document Format (PDF) or Microsoft Word. Because of staffing and resource limitations we cannot accept comments by facsimile, and all comments and content are to be limited to 8.5″ wide by 11″ high vertical page orientation. Additionally, if identical/duplicate comment submissions are submitted both electronically and in paper format, each submission should clearly indicate that it is a duplicate submission. In each comment, please specify the section of the existing DoDD 1344.7 to which the comment applies. Written comments can be addressed to either Colonel Michael A. Pachuta (Michael.pachuta@osd.mil) or Mr. James M. Ellis (james.ellis@osd.mil), at DUSD (MC&FP), 1745 Jefferson Davis Highway, Suite 302, Arlington, VA 22202.

Dated: July 15, 2003.
Patricia L. Toppings,
Alternate OSD Federal Register Liaison Officer, Department of Defense.

[FR Doc. 03-18508 Filed 7-21-03; 8:45 am]

BILLING CODE 5001-08-M